ENVIRONMENTAL PROTECTION AGENCY

40 CFR Part 721

[EPA-HQ-OPPT-2008-0252; FRL-8804-3]

RIN 2070-AB27

Proposed Significant New Use Rules on Certain Chemical Substances; Reopening of Comment Period

AGENCY: Environmental Protection Agency (EPA).

ACTION: Proposed rule; reopening of comment period.

SUMMARY: EPA issued a proposed rule in the Federal Register of November 6, 2009, concerning proposed significant new use rules for certain chemical substances. EPA has received a request to extend the comment period. This document reopens the comment period for 30 days.

DATES: Comments, identified by docket identification (ID) number EPA-HQ-OPPT-2008-0252, must be received on or before February 8, 2010.

ADDRESSES: Follow the detailed instructions as provided under ADDRESSES in the Federal Register document of November 6, 2009.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Jim Alwood, Chemical Control Division (7405M), Office of Pollution Prevention and Toxics, Environmental Protection Agency, 1200 Pennsylvania Ave., NW., Washington, DC 20460-0001; telephone number: (202) 564-8974; e-mail address: alwood.jim@epa.gov.

SUPPLEMENTARY INFORMATION: This document reopens the public comment period established in the Federal Register of November 6, 2009 (74 FR 57430) (FRL-8436-8). In that document, EPA proposed significant new use rules for certain chemical substances. EPA received a request to extend the comment period. EPA is hereby reopening the comment period for 30 days.

To submit comments, or access the docket, please follow the detailed instructions as provided under ADDRESSES in the November 6, 2009 Federal Register document. If you have questions, consult the technical person listed under FOR FURTHER INFORMATION CONTACT.

List of Subjects in 40 CFR Part 721

Environmental protection, Chemicals, Hazardous substances, Reporting, and recordkeeping requirements.

Dated: December 17, 2009.
Barbara A. Cunningham,
Acting Director, Office of Pollution Prevention and Toxics.

[FR Doc. 2010-115 Filed 1-7-10; 8:45 am]

BILLING CODE 6560-50-S